FEDERAL COMMUNICATIONS COMMISSION

[DA 04-1493]

Wireless Telecommunications Bureau Announces Licensing and Interim Link Registration Process, Including Start Date for Filing Applications for Non-Exclusive Nationwide Licenses in the 71-76 GHz, 81-86 GHz, and 92-95 GHz

AGENCY: Federal Communications Commission.

ACTION: Notice.

SUMMARY: The Wireless Telecommunications Bureau (“WTB” or “Bureau”) announces the details of the licensing and interim link registration process, including the start date for filing applications for non-exclusive nationwide licenses in the 71-76, 81-86, 92-94.0 and 94.1-95 GHz bands.¹ The FCC directed and authorized WTB to issue public notices with details of the licensing and link registration process for these bands. This Public Notice provides details of the licensing and interim link registration process for these bands.

¹ In a Report and Order, 69 FR 3257 (Jan. 23, 2004), the Commission adopted rules for both unlicensed (part 15) and licensed (part 101) use of portions of these bands. The instant Public Notice concerns licensed use of the bands, which involves all of the bands except for 100 megahertz of spectrum at 94.0-94.1 GHz. For convenience only, we refer to the licensed spectrum herein as “the bands,” “the Millimeter Wave 70/80/90 GHz Radio Service,” or “the 71-95 GHz bands”; such references do not include 94.0-94.1 GHz.

DATES: The start date for filing applications for non-exclusive nationwide licenses is June 21, 2004 and, the start date for licensees to register individual links under an interim registration process begins at 9 a.m. (e.d.t.) on July 19, 2004.

ADDRESSES: Federal Communications Commission, 445 12th Street, SW., Washington, DC 20554.

FOR FURTHER INFORMATION CONTACT: Cheryl Black or Stephen Buenzow, Broadband Division, WTB, 717-338-2687 or questions regarding the application filing and link registration procedure outlined in the Public Notice may be directed to the ULS Hotline at 1-888-CallFCC Option #2.

SUPPLEMENTARY INFORMATION: This is a synopsis of the Commission's Public Notice, DA 04-1463, released May 26, 2004, the full text of this Public Notice is available for inspection and copying during normal business hours in the FCC Reference Center, Room CY-A-257, 445 12th Street, SW., Washington DC 20554. The complete text may also be purchased from the Commission's duplicating contractor, Best Copy and Printing, Inc., (BCPI), Portals II, 445 12th Street, SW., Room CY-B402, Washington, DC. The complete item is also available on the Commission's Web site at http://www.fcc.gov/wtb.

I. Background

On October 16, 2003, the Commission adopted a Report and Order, 69 FR 3257, January 23, 2004, establishing service rules to promote non-Federal Government development and use of the “millimeter wave” spectrum in the 71-76 GHz, 81-86 GHz and 92-95 GHz bands ² on a shared basis with Federal Government operations. These bands are essentially undeveloped and available for use in a broad range of new products and services, including high-speed, point-to-point wireless local area networks and broadband Internet access. Highly directional, “pencil-beam” signal characteristics permit systems in these bands to be engineered in close proximity to one another without causing interference. Thus, the Commission adopted a flexible and innovative regulatory framework for the 71-95 GHz bands that would not require traditional frequency coordination among non-Federal Government users. Under this approach, the Commission will issue an unlimited number of non-exclusive nationwide licenses to non-Federal Government entities for the 12.9 gigahertz of spectrum allocated for commercial use. These licenses will serve as a prerequisite for registering individual point-to-point links. The 71-95 GHz bands are allocated on a shared basis with Federal Government users. Therefore, a licensee will not be authorized to operate a link under its non-exclusive nationwide license until the link is both (i) coordinated with the National Telecommunications and Information Administration (NTIA) with respect to Federal Government operations and (ii) registered as an approved link with the FCC (interim process) or third-party Database Manager (permanent process).

² On February 23, 2004, The Wireless Communications Association International, Inc. filed a petition for reconsideration of certain aspects of the Report and Order. That petition will be handled by separate order, and the issuance of this Public Notice is not intended to prejudge or resolve any of the issues raised by the petitioner.

NTIA coordination. NTIA is developing an automated coordination mechanism that will allow non-Federal Government users and independent database managers (Database Managers) selected by the FCC ³ to use an Internet site to determine whether a given non-Federal Government link has any potential conflict with Federal Government users. However, until that database is operational, NTIA coordination will occur using the existing process: licensees will file link registrations on the FCC's Universal Licensing System (ULS), which the FCC will refer to NTIA's Interdepartment Radio Advisory Committee (IRAC) Frequency Assignment Subcommittee. Once NTIA's Web-based system is operational, it is anticipated that Database Managers will supply the necessary information directly to NTIA for frequency interference coordination with Federal Government entities. The automation is designed to streamline the administrative process for non-Federal Government users in the bands.

³ See Public Notice, DA 04-672 (WT Docket No. 02-146) released March 12, 2004 (Database Manager PN).

Link registration through ULS and Database Managers. Until the Commission selects Database Managers, licensees will register links through ULS. Thereafter, licensees will register links with Database Managers, who will develop and maintain a non-FCC database of link registrations to assist parties in planning new links to avoid interference.⁴ In the event of an interference dispute, rights with regard to specific links will be established based on the date and time of link registration.

⁴ The Database Managers will assist in resolution of interference disputes using the interference protection dates of the affected parties. (See Database Manager PN for more complete details of the responsibilities of the Database Managers.) If unsatisfied with the outcome of that process, and after 30 days have passed, a licensee may seek Commission assistance in resolution of the dispute. Report and Order at paragraph 58.

In the Report and Order, the Commission explained that the licensing and link registration process would be detailed in subsequent public notices.⁵ Accordingly, the non-exclusive nationwide licensing process, the interim link registration process and general provisions for the permanent link registration process are set forth herein.

⁵ Report and Order at paragraph 59. See also 47 CFR 101.1523(b).

II. Non-Exclusive Nationwide License

A license for the Millimeter Wave 70/80/90 GHz Radio Service will consist of a non-exclusive nationwide license, combined with site-based links obtained through a link registration process. All interested parties must have a non-exclusive nationwide license prior to registering a link whether under the interim or permanent link registration processes described herein. The non-exclusive nationwide license does not authorize operation until a link is both (1) coordinated with NTIA and (2) registered.

Application Filing Process for Non-Exclusive Nationwide License

Applicants for non-exclusive nationwide licenses are encouraged to electronically file FCC Form 601 using the Universal Licensing System (ULS). Applicants can access the ULS Web site at http://wireless.fcc.gov/uls. Applicants must have an FCC Registration Number (FRN) in order to file applications and link registrations in ULS. If the applicant does not have an existing FRN, it must register and obtain an FRN prior to filing the license application.⁶

⁶ The FCC Registration Number (FRN) is not to be confused with the “link registrations” discussed in Section III of the instant Public Notice. Applicants can obtain an FCC Registration Number (FRN) using the Wireless Telecommunications Bureau Web site at http://wireless.fcc.gov/ and select “CORES/Call Sign Registration” from the right hand menu under the heading of Licensing.

Applicants for non-exclusive nationwide licenses will be required to file FCC Form 601 Main Form and Schedule B. Applicants should specify that they are filing an application in the MM—Millimeter Wave 70/80/90 Radio Service and specify the purpose of the application as New (NE). When filing electronically, the ULS will automatically load FCC Form 601.⁷ An FCC Form 601 Main Form is required for all filings and collects necessary administrative data to identify the filer, establishes the filer's basic eligibility and qualifications, and classifies the filing. It also contains the required certifications and signature block. An FCC Form 601 Schedule B must be included with the application for the initial non-exclusive nationwide license. Because the non-exclusive nationwide license serves as a prerequisite for registering links, an applicant will initially receive a single license for all available frequency bands (71-76, 81-86, 92-94.0, and 94.1-95 GHz). During the electronic filing process, FCC Form 601 Schedule B will be automatically pre-filled with the correct technical data, and cannot be changed; FCC Form 601 Schedule B is a view-only screen for this radio service.

⁷ Applicants must consult and follow FCC Form 601—Instructions.

Applications are assigned file numbers and all applications (and major amendments thereto) that are accepted for filing are listed on the Bureau's weekly public notice of such applications. An application may be granted at any time if the Bureau finds that it meets all of the Commission's requirements (e.g. meets qualification requirements, foreign ownership restrictions, payment obligations), except that certain applications will not be granted prior to the 31st day following the issuance of a Public Notice of the acceptance for filing of such application (see below).⁸ When an application is granted, an authorization will be issued to the applicant, and the grant will be placed on the Wireless Telecommunications Bureau's Weekly Action Public Notice.

⁸ See 47 CFR 1.945(b)(c).

Notice: Applicants seeking to operate under more than one regulatory status may file one application for common carrier regulatory status and a second application for non-common carrier and/or private, internal regulatory status.

Applications to provide non-common carrier service or for private, internal communications (Codes “N” and “P,” respectively on FCC Form 601 Item 35) may be granted anytime after they are accepted for filing. Applications that include a request for common carrier regulatory status (Code “C,” FCC Form 601 Item 35) will not be granted prior to the 31st day following the issuance of a Public Notice of the acceptance for filing of such application.⁹

⁹ See id. at § 1.945(b); see also 47 CFR 1.939(a)(2) (petitions to deny common carrier applications must be filed no later than 30 days after the date of the Public Notice listing such applications as accepted for filing).

Example: On June 30, 2004, the Bureau releases the weekly Public Notice of applications filed between June 21-25, 2004, that are acceptable for filing. The 31st day following this public notice is Saturday, July 31, 2004, making Monday, August 2, 2004, the first day on which a common carrier application can be granted. A license is required to file link registrations. Given that July 19, 2004, is the starting date for filing link registrations, and that no common carrier licenses can be granted prior to August 2, 2004, applicants seeking to operate under more than one regulatory status may wish to file one application for common carrier regulatory status and a second application for non-common carrier and/or private, internal regulatory status, as applicable.¹⁰

¹⁰ Ordinarily, in requesting authority to offer both common carrier and non-common carrier service, an applicant would choose to file a single FCC Form 601 and enter Codes C and N on it in response to Item 35. However, the entire application would be processed under the “common carrier” track, i.e., the “notice and 30-day waiting period” of § 1.945(b), because system limitations preclude us from processing the non-common carrier request separately when filed on the same form as the common carrier request.

Modifications to Non-Exclusive Nationwide License

Modifications to the non-exclusive nationwide license will be limited to data on the FCC Form 601 Main Form. Any such modifications should be filed on FCC Form 601 and should specify the purpose of the filing as modification (MD). Modifications to FCC Form 601 Schedule B data will not be permitted. Modifications to the FCC Form 601 Main Form data will not affect the interference protection date for individual links registered under that license. License modifications must be filed independent of any filing involving registration of individual links.

Transfer and Assignment of Non-Exclusive Nationwide Licenses

Licensees may assign or transfer their non-exclusive nationwide license using FCC Form 603. Pursuant to the Report and Order, licensees will not be permitted to partition or disaggregate their non-exclusive nationwide licenses. Therefore, licensees will only be permitted to assign or transfer the entire geographic license. Any links registered under the non-exclusive nationwide license will remain associated with the license during a full assignment or transfer. However, at a date to be announced in the future by Public Notice, we will, pursuant to our delegated authority, see note, supra, permit licensees to assign individual links from one non-exclusive nationwide license to another.¹¹

¹¹ See discussion of transfer and assignment of registered links, infra.

Applications May Be Filed Beginning June 21, 2004

Parties may file applications for non-exclusive nationwide licenses starting on June 21, 2004. Applications filed before June 21, 2004, will be dismissed.

III. Individual Link Registration and Coordination

A. Introduction

As noted above, the non-exclusive nationwide license is a required prerequisite for registering individual links. Therefore, individual links cannot be registered until a geographical (nationwide) license is obtained (see above).

In Appendix C of the Report and Order, the Commission specified certain technical parameters that would be required for link registration. The Report and Order also stated that the Commission would provide details regarding the licensing requirements and coordination with NTIA in a future Public Notice. Ongoing coordination with NTIA in developing the Federal Government/non-Federal Government coordination process has resulted in refinements to the required link data. Certain refinements will facilitate efficient coordination using NTIA's automated system. Specifically, it was determined that EIRP(dBm), Receiver Latitude (ddmmss.s), Receiver Longitude (dddmmss.s), Receiver Noise Figure (dB), and Polarization are needed. Other data elements were determined to be redundant and therefore will not be required, namely Bandwidth,¹² Path Distance, and Data Type.¹³ Finally, Path Status, Proposed Date, and Inception Date will not be required because the filing date and IRAC coordination dates will automatically be recorded in ULS.

¹² Transmitter Emission Bandwidth will be collected as part of the Transmitter Emission Designator.

¹³ Data Type will be collected as part of the Transmitter Emission Designator consistent with the ITU format for emission designators. See also § 2.201 of the Commission's Rules.

The process for link registration and coordination with NTIA prior to the implementation of NTIA's automated system and the appointment of third party database managers is referred to in this Pubic Notice as the “interim link registration process.” The process for link registration and coordination with NTIA subsequent to the implementation of NTIA's automated system is referred to in this Public Notice as the “permanent link registration process.”

B. Interim Process for Link Coordination and Registration

Notice: During the interim process—all link registrations must be filed electronically (in ULS) using the process described below.

• Effective Date for Interim Link Registration Process

In the Report and Order the Commission specified that during the interim link registration process, licensees would be permitted to register links in ULS and coordination with NTIA would be accomplished through the existing IRAC process. Licensees may not initiate link registrations through ULS until after their non-exclusive nationwide license application is granted. ULS will be ready to accept electronic link registrations starting at 9:00 a.m. (EDT) on Monday, July 19, 2004. Registrations filed before that date and time will not be processed. You must have a non-exclusive nationwide license before initiating a link registration. (As discussed above, you can apply for a non-exclusive nationwide license starting on June 21, 2004.)

• How To File Individual Link Registrations Under the Interim Process

During the interim link registration process, individual links must be registered with the Commission in ULS. Links will be coordinated with NTIA through IRAC using the existing IRAC coordination process. FCC Form 601 has been revised to add Schedule M (Schedule for Link registration) ¹⁴ to collect the necessary data elements as set forth in the Report and Order and this Public Notice. To register a link, licensees must file electronically using FCC Form 601 Main Form and Schedule M. The FCC Form 601 Main Form should indicate a purpose of “Register Link/Location” (RL). A separate FCC Form 601 Main Form and Schedule M will be required for each proposed link. During the interim process, all link registrations must be filed electronically in ULS. Link registrations will not be placed on Public Notice as a matter of routine unless they raise a matter of public significance, e.g., environmental concerns.¹⁵ If the proposed link requires environmental assessment, is located in a quiet zone, or is in an area subject to international coordination, the licensee should specify so on the FCC Form 601 Schedule M and provide any necessary information in accordance with the instructions and FCC Rules. The ULS electronic form performs edit checks as information is entered. If ULS finds an error, it may not allow the application to be submitted until the error has been corrected.

¹⁴ Schedule M is the new FCC Schedule that must be used for link registration. The form may be accessed for electronic filing through ULS, downloaded from the FCC forms page at http://www.fcc.gov/formpage.html, or ordered from the Forms Distribution Center at 1-800-418-3676.

¹⁵ See, e.g., 47 CFR 1.933(a)(3) (categories of information of public significance include special environmental considerations as required by Part 1, FCC Rules).

When an individual link has been successfully coordinated with IRAC and is approved the licensee will be notified by letter that their link registration has been posted in ULS as accepted. Individual link registrations will be available for public inspection through ULS electronically. However, the printed copy of the non-exclusive nationwide license will not be updated to reflect link registrations and will not be re-issued when individual links are registered with that call sign.

• How To Coordinate Links With NTIA/IRAC During the Interim Process

The FCC will coordinate links with NTIA/IRAC. Licensees need not provide any special information or take any special action other than filing the FCC Form 601 Main Form and Schedule M as described above. If during the NTIA/IRAC coordination process it is determined that additional information is required to complete that process, the link registration will be “returned” to the licensee. If the licensee provides the needed information within 60 days of the date of the “return notice,” it will keep its original filing date for that registration unless the new information modifies the link registration, in which case the filing date will be advanced to the filing date of the new information. If the licensee fails to timely provide the information within 60 days of the return notice, the link registration will be dismissed.

• Interference Protection Date and Interference Dispute Resolution

In establishing the link registration process, the Commission adopted the standard by which interference disputes are to be resolved. Specifically, the Commission stated that, “[f]or the purpose of non-Federal Government licensee interaction with each other, instead of requiring prior coordination of all prospective links, we will institute the link registration mechanism * * * which will provide priority based on date/time of application in any cases in which interference may arise.” Thus, during the interim link registration process, the date on which the FCC Form 601 Main Form and Schedule M are submitted to the Commission in a state acceptable for filing will be used as the first-in-time interference protection date while the application is coordinated with NTIA through the existing IRAC coordination process. If the link is cleared via the coordination process, interference protection will become effective based on the first-in-time date established by the aforementioned filing date of the FCC Form 601 Main Form and Schedule M. If at any time the link registration is found to be defective or cannot be successfully coordinated with IRAC, the link registration will be dismissed and the interference protection date rendered ineffective. If the applicant re-files its link registration request, the interference protection date will be established by the date that the new request is received at the Commission in a state acceptable for filing.

During the coordination process, licensees may be asked to provide additional information to facilitate coordination with NTIA. In these circumstances the licensee will be given 60 days to provide the requested information. If the licensee responds with the requested information within the required time frame, and does not make any changes to the data on FCC Form 601 Schedule M, the initial first-in-time interference protection date will be preserved.

Pursuant to our delegated authority set forth in the Report and Order, see note 5, supra, we will assign a new interference protection date whenever there is a change to the technical data on an individual link. In cases in which the modification does create new interference, the licensee whose links are already registered will be protected against the licensee who modified its links. This is consistent with the Commission's desire to ensure that the system of licensing and link registration adequately protects those that have diligently engineered their systems to bring service to the public unencumbered by either regulation or harmful interference.¹⁶ To ensure an orderly, reliable and streamlined link registration system, we believe first-in-time protection rights can only be established and enforceable for a link that can or ultimately will be constructed. For example, we do not want a licensee arbitraging high value paths (such as in urban areas like New York City) by filing link registrations to preserve first in time protections against its competitors for those paths, and then later making conforming modifications to meet particular business needs. Further, even where modifications are necessary (for example, during the NTIA coordination process), we are concerned that a licensee may displace or compete with another licensee's first in time protection with even the most minor of changes to the technical parameters of a link. In cases in which the modification causes no new interference, the new interference protection date will have no practical effect on the licensee's first-in-time rights.

¹⁶ In the Report and Order, the Commission stated that, “The overarching purpose of our requirements * * * concerning link construction, modification, and discontinuance, is to ensure that spectrum is put to use and to maintain the integrity of the information in the relevant databases by correctly reflecting the actual record concerning these issues.” Id. at paragraph 80. Notably, in establishing both the construction and loading deadlines, the Commission barred the use of the initial link registration date for interference protection where the licensee fails to meet its regulatory obligations. Id. at n.204 and paragraph 81.

Should a licensee receive interference from another licensee, the licensee experiencing the harmful interference shall follow the interference resolution procedures outlined in 47 CFR § 101.105 of the Commission's Rules (e.g., notify the licensee believed to be causing the interference and shall supply information describing its problem and supporting its claim). The licensee who has the earlier interference protection date is to be protected against later filed link registrations. The licensee causing the interference shall respond immediately and make every reasonable effort to identify and resolve the conflict. Prior links shall be protected in accordance with the interference criteria specified in § 101.147(z)(2). Licensees are encouraged to resolve the harmful interference before seeking resolution from the Commission.

• Modifications and Amendments To Link Registrations

Notice: Any change to technical data on a link registration will result in a new interference protection date.¹⁷

¹⁷ See “Interference Protection Date and Interference Dispute Resolution,” supra.

Licensees must electronically file FCC Form 601 Main Form and Schedule M to modify the technical data on an individual link registration. The FCC Form 601 Main Form should indicate a purpose of “Register Link/Location” (RL). On FCC Form 601 Schedule M, the licensee should specify the action as Modify (M) and identify the link registration that is being changed. To amend the technical data on an individual link registration which has not yet been approved, licensees will be required to file FCC Form 601 Main Form and Schedule M. The FCC Form 601 Main Form should indicate a purpose of Amendment (AM) and identify the file number of the pending link registration filing that is being changed. Under electronic filing, the previously entered data from FCC Form 601 Schedule M will be displayed and the licensee will be allowed to change the data.

• Transfer and Assignment of Registered Links

Transfer or assignment of a non-exclusive nationwide license, unless otherwise specified, will include all links registered under that call sign. The ability to file for partial assignment of individual link registrations will not be available in ULS on July 19, 2004, the date that ULS will be ready to accept link registration filings from licensees. However, by future Public Notice, the Bureau will announce, pursuant to its delegated authority, see note, supra, procedures for assignment of individual link registrations from one non-exclusive nationwide call sign to another.

C. Permanent Process for Link Coordination and Registration

Under the permanent process, link registrations will be made on a non-FCC registration database and NTIA will have an automated coordination system. Three things must occur before the permanent process can become effective. First, the Database Managers must be selected. Second, the Database Managers must have the registration database system completed. Third, NTIA's automated coordination system must be operational. In this connection, the following is a general update on the status of these endeavors.

The Bureau is reviewing four proposals, and comments thereto, submitted in response to the Database Managers PN. WTB will designate one or more Database Managers, and such designation(s) will take effect upon the execution by such Database Manager(s) and the WTB of a Memorandum of Understanding that will, among other things, establish a timeline for implementation of the registration database. Thereafter, the Bureau will announce by public notice the names and addresses of the selected Database Managers and the starting date for registering links through the Database Manager(s).

NTIA is in the process of developing its automated coordination system, which will enable near real time coordination of non-Federal Government links with Federal Government operations. As indicated in the Report and Order, it is anticipated that NTIA will have the initial version of their automated system operational within four months of an agreement on the framework of the coordination procedure. After the permanent process becomes effective, links must be coordinated with NTIA through NTIA's automated system. The technical parameters of the proposed link will be entered into NTIA's automated system and NTIA's automated system will give either a green light or a yellow light based on the proposed parameters. If the proposed link receives a green light, then the licensee can begin or complete its link registration process through a Database Manager, and with limited exceptions ¹⁸ no filing with the Commission is necessary and the Database Manager will post the link registration on the non-FCC registration database. If the proposed link receives a yellow light, an FCC Form 601 and Schedule M will need to be filed with the Commission. In the case of a yellow light, the link will require further coordination with NTIA through the existing IRAC process. By comparison, during the interim process, the FCC will coordinate every link through the existing NTIA/IRAC process.

¹⁸ Filing with the Commission is required even in the event of a green light when the application requires environmental assessment, is located in a quiet zone, or is in an area subject to international coordination.

The effective date and additional details of the permanent process described herein will be announced by future Public Notice after the prerequisites discussed above have been completed.

IV. Filing and Regulatory Fees

• Applications Associated With Nationwide, Non-exclusive License

• Link Registrations on ULS During the Interim Process

The 70-80-90 GHz bands are licensed for microwave point-to-point operations (common carrier or private operational fixed) which are subject to filing fees under § 1.1102 and regulatory fees under §§ 1.1152 or 1.1154, as applicable.¹⁹ Certain applicants are exempt from filing and/or regulatory fees. Nonexempt applicants for new, non-exclusive nationwide licenses will be subject to microwave service filing and regulatory fees as follows:

¹⁹ See “Wireless Telecommunications Bureau Fee Filing Guide” Effective September 11, 2003 (http://www.fcc.gov/Forms/Form1070/2003/2003feeguide.pdf).

• New license applications must use fee type code CJPR.²⁰ Currently, the combined fee is $470.

²⁰ The filing and regulatory fees for new or modified common carrier and private operational fixed microwave are the same; we are requiring all feeable applications to specify common carrier fee codes for administrative convenience. Applicants identify their actual regulatory status on Form 601, Item 35.

• Modification of license applications must use fee code CJPM. Currently, the filing fee is $220.

• Assignments of Authorization and Transfers of Control of license applications must use fee code CCPM for the first call listed on the application and CAPM for each additional call sign listed. Currently, the filing fee is $80 for the first call sign and $50 for each additional call sign.

• Individual link registrations on ULS are not subject to a filing fee.

Notice: On or after September 1, 2004, applicants and licensees must check the Wireless Telecommunications Bureau Fee Guide for the current fees.²¹

²¹ See http://www.fcc.gov/fees/appfees.html and click on the link to the 2004 Wireless Telecommunications Bureau Fee Filing Guide, or call 1-888-225-5322, Option 2.

V. Equipment Authorization/Verification Procedures

Rules relating to marketing of radio frequency devices and equipment authorization procedures contained in part 2, subparts I and J, respectively, apply to licensed and unlicensed equipment operating in the 71-95 GHz bands.

Federal Communications Commission.
Joel Taubenblatt,
Chief, Broadband Division.

[FR Doc. 04-15870 Filed 7-13-04; 8:45 am]

BILLING CODE 6712-01-P